DEPARTMENT OF COMMERCE

International Trade Administration

[A-570-855]

Non-Frozen Apple Juice Concentrate from the People's Republic of China: Final Results for the Administrative Review

AGENCY: Import Administration, International Trade Administration, Department of Commerce.

SUMMARY: The Department is conducting an administrative review of this Order, covering the period of review (“POR”) of June 1, 2007, - May 31, 2008. The Department preliminarily found that Itochu Corporation and its wholly-owned subsidiaries, Yitian Juice (Shaanxi) Co., Ltd. and Laiyang Yitian Juice Co., Ltd., (collectively known as “Itochu”) did not sell the subject merchandise at less than normal value (“NV”) and thus assigned a zero margin for the POR. See Non-Frozen Apple Juice Concentrate from the People's Republic of China: Preliminary Results for the Administrative Review, 74 FR 31238 (June 30, 2009) (“Preliminary Results”). Based upon our analysis of comments received, the Department made no changes to the margin calculations in the final results. Therefore, we will instruct the U.S. Customs and Border Protection (“CBP”) to assess antidumping duties on entries of subject merchandise during the POR for which the importer-specific assessment rates are above de minimis.

EFFECTIVE DATE: October 2, 2009.

FOR FURTHER INFORMATION CONTACT: Alexis Polovina, AD/CVD Operations, Office 9, Import Administration, International Trade Administration, U.S. Department of Commerce, 14th Street and Constitution Ave, NW, Washington DC 20230; telephone (202) 482-3927.

SUPPLEMENTARY INFORMATION:

CASE HISTORY

On June 5, 2000, the Department of Commerce (“Department”) published in the Federal Register the antidumping duty order on certain non-frozen apple juice concentrate from the People's Republic of China (“PRC”). See Notice of Amended Final Determination of Sales at Less Than Fair Value and Antidumping Duty Order: Certain Non-Frozen Apple Juice Concentrate from the People's Republic of China, 65 FR 35606 (June 5, 2000) (“Order”). On June 30, 2009, the Department published in the Federal Register the Preliminary Results of this administrative review. On July 17, 2009, Itochu filed comments regarding the Department's Preliminary Results. On July 22, 2009, The Department subsequently rejected these comments as they contained an untimely submission of new factual information. See Memorandum to the File, from Alexis Polovina, Case Analyst, Office 9, through Alex Villanueva, Program Manager, Office 9, regarding “Administrative Review of Apple Juice Concentrate from the People's Republic of China: Rejection of New Information” dated July 22, 2009 (“Rejection of New Information”). As the deadline to submit case briefs was July 30, 2009, the Department allowed Itochu to resubmit their case brief. Itochu submitted a revised case brief on July 30, 2009. No other party filed comments and no party requested a public hearing.

SCOPE OF THE ORDER

The product covered by this order is certain non-frozen apple juice concentrate. Apple juice concentrate is defined as all non-frozen concentrated apple juice with a brix scale of 40 or greater, whether or not containing added sugar or other sweetening matter, and whether or not fortified with vitamins or minerals. Excluded from the scope of this order are: frozen concentrated apple juice; non-frozen concentrated apple juice that has been fermented; and non-frozen apple juice to which spirits have been added.

The merchandise subject to this order is classified in the Harmonized Tariff Schedule of the United States (“HTSUS”) at subheadings 2106.90.52.00, and 2009.70.00.20 before January 1, 2002, and 2009.79.00.20 after January 1, 2002. Although the HTSUS subheadings are provided for convenience and customs purposes, the written description of the scope of the order is dispositive.

ANALYSIS OF COMMENTS RECEIVED

All issues raised in the comments by Itochu are addressed in the concurrent Issues and Decision Memorandum (“Issues and Decision Memo”), which is hereby adopted by this notice. A list of the issues which Itochu raised and to which we respond in the Issues and Decision Memo is attached to this notice as an Appendix. The Issues and Decision Memo is a public document and is on file in the Central Records Unit (“CRU”), Main Commerce Building, Room 1117, and is accessible on the Web at http://www.trade.gov/ia. The paper copy and the electronic version of the memorandum are identical in content.

FINAL RESULTS OF THE REVIEW

The Department has determined that the final dumping margin for the POR is:

Non-Frozen Apple Juice Concentrate from the PRC
Exporter | Weighted-Average Margin (Percent)
Itochu Corporation | 0.00

ASSESSMENT RATES

Upon issuance of the final results, the Department will determine, and the CBP shall assess, antidumping duties on all appropriate entries on an ad valorem basis. The Department intends to issue assessment instructions to CBP 15 days after the date of publication of the final results of review. Pursuant to 19 CFR 351.212(b)(1), we will calculate importer-specific (or customer) duty assessment rates based on the ratio of the total amount of dumping margins calculated for the examined sales to the total entered value of those same sales. We will instruct CBP to assess antidumping duties on all appropriate entries covered by this review if any importer-specific assessment rate calculated in the final results of this review is above de minimis, i.e., less than 0.50 percent.

CASH-DEPOSIT REQUIREMENTS

The following cash deposit requirements will be effective upon publication of the final results of this administrative review for all shipments of subject merchandise from Itochu entered, or withdrawn from warehouse, for consumption on or after the publication date, as provided for by section 751(a)(2)(C) of the Tariff Act of 1930, as amended (“Act”):(1) For subject merchandise exported by Itochu, no deposit will be required; (2) for companies previously found to be entitled to a separate rate in prior segments of the proceeding, and for which no review has been requested, the cash deposit rate will continue to be the rate established in the most recent review of that company; (3) for all other PRC exporters, the cash deposit rate will be 51.74 percent, the PRC country-wide ad-valorem rate; and (4) for non-PRC exporters of subject merchandise from the PRC to the United States, the cash deposit rate will be the rate applicable to the PRC exporter that supplied that non-PRC exporter. These deposit requirements, when imposed, shall remain in effect until further notice.

REIMBURSEMENT OF DUTIES

This notice serves as a final reminder to importers of their responsibility under 19 CFR 351.402(f)(2) to file a certificate regarding the reimbursement of antidumping duties prior to liquidation of the relevant entries during this POR. Failure to comply with this requirement could result in the Sectary's presumption that reimbursement of antidumping duties occurred and the subsequent assessment of double antidumping duties.

ADMINISTRATIVE PROTECTIVE ORDERS

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation, which is subject to sanction.

We are issuing and publishing this determination in accordance with sections 751(a)(1) and 777(i) of the Act, and 351.221(b)(5).

Dated: September 25, 2009.
Ronald K. Lorentzen,
Acting Assistant Secretary for Import Administration.

Appendix—Issues and Decision Memorandum

Comment 1: Calculation of the Denominator

Comment 2: Rejection of New Information

[FR Doc. E9-23836 Filed 10-1-09; 8:45 am]

BILLING CODE 3510-DS-S